DEPARTMENT OF TRANSPORTATION

Federal Aviation Administration

14 CFR Part 39

[Docket No. 2002-CE-02-AD; Amendment 39-12712; AD 2002-08-04]

RIN 2120-AA64

Airworthiness Directives; PIAGGIO AERO INDUSTRIES S.p.A. Model P-180 Airplanes

AGENCY: Federal Aviation Administration, DOT.

ACTION: Final rule.

SUMMARY: This amendment adopts a new airworthiness directive (AD) that applies to certain PIAGGIO AERO INDUSTRIES S.p.A. (PIAGGIO) Model P-180 airplanes. This AD requires you to replace the four defective horizontal stabilizer hinge bushings with replacement bushings. This AD is the result of mandatory continuing airworthiness information (MCAI) issued by the airworthiness authority for Italy. The actions specified by this AD are intended to replace defective bushings before they cause failure of the horizontal stabilizer. Such failure could lead to reduced or loss of control of the aircraft.

DATES: This AD becomes effective on June 10, 2002.

The Director of the Federal Register approved the incorporation by reference of certain publications listed in the regulations as of June 10, 2002.

ADDRESSES: You may get the service information referenced in this AD from PIAGGIO AERO INDUSTRIES S.p.A, Via Cibrario 4, 16154 Genoa, Italy; telephone: +39 010 6481 856; facsimile: +39 010 6481 374. You may view this information at the Federal Aviation Administration (FAA), Central Region, Office of the Regional Counsel, Attention: Rules Docket No. 2002-CE-02-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Ente Nazionale per l' Aviazione Civile (ENAC), which is the airworthiness authority for Italy, recently notified FAA that an unsafe condition may exist on certain PIAGGIO Model P-180 airplanes. The ENAC reports that PIAGGIO has discovered four incidents of defective horizontal stabilizer hinge bushings being installed on 4 PIAGGIO Model P-180 airplanes. The defect is a missing thermal process during bushing manufacturing.

What Is the Potential Impact if FAA Took No Action?

Continued operation with defective bushings could result in failure of the horizontal stabilizer. Such failure could lead to reduced or loss of control of the aircraft.

Has FAA Taken Any Action to This Point?

We issued a proposal to amend part 39 of the Federal Aviation Regulations (14 CFR part 39) to include an AD that would apply to certain PIAGGIO Model P-180 airplanes. This proposal was published in the Federal Register as a notice of proposed rulemaking (NPRM) on February 11, 2002 (67 FR 6205). The NPRM proposed to require you to replace the defective bushings, return the bushings to PIAGGIO, and report the return to FAA.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 2 airplanes in the U.S. registry.

What Is the Cost Impact of This AD on Owners/Operators of the Affected Airplanes?

We estimate the following costs to accomplish the replacement:

Labor cost | Parts cost | Total cost per airplane | Total cost on U.S. operators
50 workhours×$60 per hour=$3,000 | $400 per aircraft | $3,400 | $3,400×2=$6,800

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-08-04 PIAGGIO AERO INDUSTRIES S.p.A.: Amendment 39-12712; Docket No. 2002-CE-02-AD.

(a) What airplanes are affected by this AD? This AD affects Model P-180 airplanes, serial numbers 1034, 1035, 1039, and 1045, that are certificated in any category.

(b) Who must comply with this AD? Anyone who wishes to operate any of the airplanes identified in paragraph (a) of this AD must comply with this AD.

(c) What problem does this AD address? The actions specified by this AD are intended to replace defective bushings before they cause failure of the horizontal stabilizer. Such failure could lead to reduced or loss of control of the aircraft.

(d) What actions must I accomplish to address this problem? To address this problem, you must accomplish the following:

Actions | Compliance | Procedures
(1) Replace the horizontal stabilizer hinge bushings with replacement bushings (part number RDC. 19-09-167-1/300) (or FAA-approved equivalent part number) | Within the next 150 hours time-in-service (TIS) after June 10, 2002 (the effective date of this AD) | Follow the ACCOMPLISHMENT INSTRUCTIONS section of PIAGGIO AERO INDUSTRIES S.p.A Service Bulletin (Mandatory ) No. SB-80-0140, dated October 15, 2001, and the applicable service manual.
(2) Send the removed bushings to PIAGGIO AERO INDUSTRIES S.p.A. so the bushings cannot be reused and report the return to FAA. The Office of Management and Budget (OMB) approved the information collection requirements contained in this regulation under the provisions of the Paperwork Reduction Act of 1980 (44 U.S.C. 3501 et seq.) and assigned OMB Control Number 2120-0056 | Within 10 days after removing the bushings or within 10 days after June 10, 2002 (the effective date of this AD), whichever occurs later | Send the removed bushings to PIAGGIO AERO INDUSTRIES S.p.A, Via Cibrario 4, 16154 Genoa, Italy, and report the return to Doug Rudolph, FAA, at the address in paragraph (f) of this AD.

(e) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with PIAGGIO AERO INDUSTRIES S.p.A Service Bulletin (Mandatory ) No. SB-80-0140, dated October 15, 2001. The Director of the Federal Register approved this incorporation by reference under 5 U.S.C. 552(a) and 1 CFR part 51. You may get copies from PIAGGIO AERO INDUSTRIES S.p.A, Via Cibrario 4, 16154 Genoa, Italy. You may view copies at the FAA, Central Region, Office of the Regional Counsel, 901 Locust, Room 506, Kansas City, Missouri, or at the Office of the Federal Register, 800 North Capitol Street, NW, suite 700, Washington, DC.

Note 2: The subject of this AD is addressed in Italian AD Number 2001-512, dated November 30, 2001.

(i) When does this amendment become effective? This amendment becomes effective on June 10, 2002.

Issued in Kansas City, Missouri, on April 10, 2002.
James E. Jackson,
Acting Manager, Small Airplane Directorate, Aircraft Certification Service.

[FR Doc. 02-9389 Filed 4-22-02; 8:45 am]

BILLING CODE 4910-13-P